DEPARTMENT OF VETERANS AFFAIRS

[OMB Control No. 2900-0737]

Agency Information Collection (eBenefits Portal) Activity Under OMB Review; Correction

AGENCY: Veterans Benefits Administration, Department of Veterans Affairs.

ACTION: Notice; correction.

SUMMARY: The Department of Veterans Affairs (VA) published a collection of information notice in the Federal Register on January 31, 2013, that contained an error. The notice incorrectly identified the responsible VA organization. This document corrects that error by removing “Office of Information and Technology” and adding, in its place, “Veterans Benefits Administration”.

FOR FURTHER INFORMATION CONTACT: Crystal Rennie, Enterprise Records Service (005R1B), Department of Veterans Affairs, 810 Vermont Avenue NW., Washington, DC 20420, at 202-632-7492.

SUPPLEMENTARY INFORMATION:

Correction.

In FR Doc. 2013-02025, published on January 31, 2013, at 78 FR 6849, make the following correction. On page 6849, in the first column, at the Agency heading, remove “Office of Information and Technology” and add, in its place, “Veterans Benefits Administration”.

Dated: February 5, 2013.
William F. Russo,
Deputy Director, Office of Regulations Policy and Management, Office of General Counsel, Department of Veterans Affairs.

[FR Doc. 2013-02906 Filed 2-7-13; 8:45 am]

BILLING CODE 8320-01-P